DEPARTMENT OF ENERGY

Federal Energy Regulatory Commission

[Docket No. EC04-6-000, et al.]

Allegheny Energy Supply Company, LLC, et al.; Electric Rate and Corporate Filings

October 21, 2003.

The following filings have been made with the Commission. The filings are listed in ascending order within each docket classification.

1. Allegheny Energy Supply Company, LLC and Constellation Power Source, Inc.

[Docket No. EC04-6-000]

Take notice that on October 15, 2003, Allegheny Energy Supply Company, LLC (AE Supply) and Constellation Power Source, Inc. (CPSI) (together, the Applicants) filed a joint application for disposition of certain power contracts under Section 203 of the Federal Power Act all as more fully described in their application. The Applicants request expeditious Commission approval to permit the transfer of the power contracts to be completed by November 28, 2003.

Comment Date: November 5, 2003.

2. Chanarambie Power Partners LLC

[Docket No. EG03-104-000]

Take notice that on September 15, 2003, Chanarambie Power Partners LLC (Chanarambie) tendered for filing with the Commission an application for determination of exempt wholesale generator status pursuant to section 32 of the Public Utility Holding Company Act of 1935 and 18 CFR part 365 of the Commission's regulations.

Chanarambie states that it will own and sell the output at wholesale of a wind-power generating facility located in Murray County, Minnesota (the Facility). Chanarambie further states that when completed, the Facility will consist of 57 wind-powered turbine generators and ancillary equipment having a generating capability of 85.5MW.

Comment Date: November 3, 2003.

3. California Independent System Operator Corporation

[Docket No. ER03-942-001]

Take notice that on October 16, 2003, the California Independent System Operator Corporation (ISO), submitted a filing in response to Commission Staff's Letter of August 7, 2003, requesting additional explanations concerning the ISO's Amendment No. 53 Tariff filing submitted on June 10, 2003.

The ISO states that this filing has been served upon all parties in the captioned proceeding, and has been posted on the ISO Home Page.

Comment Date: November 6, 2003.

4. Xcel Energy Services, Inc.; Northern States Power Company

[Docket No. ER03-1282-001]

Take notice that on October 14, 2003, Xcel Energy Services, Inc. (XES), on behalf of Northern States Power Company (NSP) submitted for filing with the Federal Energy Regulatory Commission (Commission) a response to Staff's request for additional information in support of the Generation Interconnection Agreement between NSP and Boeve Windfarm LLC filed with the Commission on September 2, 2003.

NSP requests the agreement to be accepted for filing effective August 1, 2003, and requests waiver of the Commission's notice requirements in order for the Agreements to be accepted for filing on the date requested.

Comment Date: November 4, 2003.

5. Ebersen, Inc.

[Docket No. ER03-1330-001]

Take notice that on October 16, 2003, Ebersen, Inc. amended its filing of September 12, 2003 by submitting a revised Rate Schedule No. 1.

Comment Date: November 6, 2003.

6. Enermetrix.com

[Docket No. ER03-1356-001]

Take notice that on October 15, 2003, Enermetrix.com tendered for filing an amendment to the Notice of Cancellation of its Market-based Rate Authority filed on September 17, 2003.

Comment Date: November 5, 2003.

7. Western Electricity Coordinating Council

[Docket No. ER04-51-000]

Take notice that on October 16, 2003, Western Electricity Coordinating Council (WECC) tendered for filing a request for approval of certain amendments to WECC rate Schedule FERC No. 1, the WECC Bylaws. WECC states that the amendments reflect changes to the WECC Bylaws adopted by vote of the WECC membership and by the WECC Board of Directors, including revisions to ensure consistency and clarity, revision of confidentiality provisions to reflect the need to protect security-sensitive information, and “clean-up” language changes that eliminate references relating only to WECC's initial formation.

WECC states that copies of the filing were served upon all parties in the above-captioned proceeding.

Comment Date: November 6, 2003.

8. Wisconsin Electric Power Company

[Docket No. ER04-52-000]

Take notice that on October 16, 2003, Wisconsin Electric Power Company (Wisconsin Electric) tendered for filing Amendment No. 1 to the Joint Operating Agreement (JOA or Agreement) between Wisconsin Electric and Edison Sault Electric Company (Edison Sault).

Wisconsin Electric states that the purpose of the filing is to amend the current JOA so as to include voluntarily requested “Renewable Energy” among the portfolio of energy resources that are covered by the Agreement. Wisconsin Electric and Edison Sault request that the Commission approve Amendment No. 1 to become effective on November 1, 2003.

Comment Date: November 6, 2003.

9. AmerenEnergy Resources Generating Company

[Docket No. ER04-53-000]

Take notice that on October 17, 2003, AmerenEnergy Resources Generating Company (AERG), pursuant to 18 CFR 35.16 and 131.51, tendered for filing a Notice of Succession, reflecting a change in the company's name from Central Illinois Generation, Inc. to AmerenEnergy Resources Generating Company. AERG states that as a result of this name change, there will be no changes in structure or operations. AERG requests an effective date of October 3, 2003 for this filing.

Comment Date: November 7, 2003.

10. Southwest Power Pool, Inc.

[Docket Nos. RT04-1-000 and ER04-48-000]

Take notice that on October 15, 2003, Southwest Power Pool, Inc. (SPP) tendered for filing a request for recognition as a Regional Transmission Organization (RTO). SPP states that the filing includes its Open Access Transmission Tariff revised to meet all applicable requirements of Order Nos. 2000 and 2000-A. SPP further states that its filing conforms to the guidance offered in the Commission's White Paper on Wholesale Power Market Platform, issued April 28, 2003 in Docket No. RM01-12-000.

SPP states that copies of this filing were served upon all SPP Members and customers, as well as on all state commissions within the region.

Comment Date: November 5, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00127 Filed 10-29-03; 8:45 am]

BILLING CODE 6717-01-P